DEPARTMENT OF JUSTICE

Notice of Consent Decree Pursuant to the Clean Water Act

In accordance with Departmental Policy, 28 CFR 50.7, notice is hereby given that a proposed consent decree in United States v. McCann Resources, Inc. and Mark W. McCann, Civ. No. 04 cv 744 TCK-FHM (N.D. Ok.), DOJ #90-5-1-1-07876, was lodged in the United States District Court for the Northern District of Oklahoma on November 28, 2006. The Decree will resolve the liability of the named Defendants to the United States for their violations of Section 1423(b) of the Safe Drinking Water Act, 42 U.S.C. 300h-2(b), and Sections 301 and 311 of the Clean Water Act, 33 U.S.C. 1311 and 1321, and regulations promulgated thereunder, during their operation of oil production facilities in Osage County, Oklahoma.

Under the proposed Consent Decree, Defendants are required to perform injunctive relief at all their facilities in Oklahoma and jointly pay a civil penalty. Specifically, they will (a) take corrective action to bring the oil production facilities into compliance with federal law in accordance with the recommendations of an environmental consultant and other measures specified in the Decree, (b) remediate soils damaged by brine discharges, (c) adopt a stringent operation and maintenance program to prevent future discharges, (d) update Spill Prevention Control and Countermeasures plans, and (e) plug and/or test injection wells pursuant to Underground Injection Control regulations according to a schedule. Additionally, Defendants will jointly pay a civil penalty of $11,000 based on a qualified financial analyst's assessment of their limited ability to pay a penalty while performing injunctive relief.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. McCann Resources, Inc. and Mark W. McCann, Civ., DOJ #90-5-1-1-07876. The proposed Consent Decree may be examined at the Office of the United States Attorney, Northern District of Oklahoma, 333 West 4th Street, Suite 3460, Tulsa, Oklahoma 74103-3809, and at U.S. EPA Region 6, 1445 Ross Avenue, Suite 1200, Dallas, Texas, 75202. During the public comment period, the proposed Consent Decree may be examined on the following Department of Justice Web site, to http://www.usdoj.gov/enrd/Consent_Decrees.html. A copy of the proposed Consent Decree may also be obtained by mail from the Consent Decree Library, P.O. Box 7611, U.S. Department of Justice, Washington, DC. 20044-7611 or by faxing or e-mailing a request to Tonia Fleetwood (tonia.fleetwood@usdoj.gov), fax no. (202) 514-0097, phone confirmation number (202) 514-1547. In requesting a copy from the Consent Decree Library, please enclose a check in the amount of $11.75 for the Consent Decree, or $41.50 for the Consent Decree with appendices (25 cents per page reproduction cost) payable to the U.S. Treasury.

Thomas A. Mariani, Jr.,
Assistant Chief, Environmental Enforcement Section, Environment and Natural Resources Division.

[FR Doc. 06-9673 Filed 12-13-06; 8:45 am]

BILLING CODE 4410-15-M